INTERNATIONAL TRADE COMMISSION

[Investigation Nos. 701-TA-624-625 and 731-TA-1450-1451 (Final)]

Quartz Surface Products From India and Turkey; Determinations

On the basis of the record ¹ developed in the subject investigations, the United States International Trade Commission (“Commission”) determines, pursuant to the Tariff Act of 1930 (“the Act”), that an industry in the United States is materially injured by reason of imports of quartz surface products from India and Turkey, provided for in subheading 6810.99.00 of the Harmonized Tariff Schedule of the United States, that have been found by the U.S. Department of Commerce (“Commerce”) to be sold in the United States at less than fair value (“LTFV”), and to be subsidized by the governments of India and Turkey.²

¹ The record is defined in § 207.2(f) of the Commission's Rules of Practice and Procedure (19 CFR 207.2(f)).

² The Commission also finds that imports subject to Commerce's affirmative critical circumstances determination are not likely to undermine seriously the remedial effect of the countervailing and antidumping duty orders on quartz surface products from India and Turkey.

Background

The Commission instituted these investigations effective May 14, 2019, following receipt of petitions filed with the Commission and Commerce by Cambria Company LLC, Eden Prairie, Minnesota. The final phase of the investigations was scheduled by the Commission following notification of preliminary determinations by Commerce that imports of quartz surface products from India and Turkey were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the revised notice in the Federal Register on February 11, 2020 (85 FR 7782). In light of the restrictions on access to the Commission building due to the COVID-19 pandemic, and in accordance with 19 U.S.C. 1677c(a)(1), the Commission did not cancel its hearing scheduled for April 29, 2020, but conducted its hearing through a series of written questions, submissions of written testimony, written responses to questions, posthearing briefs and closing remarks through teleconferencing; all persons who requested the opportunity were permitted to participate.

The Commission made these determinations pursuant to sections 705(b) and 735(b) of the Act (19 U.S.C. 1671d(b) and 19 U.S.C. 1673d(b)). It completed and filed its determinations in these investigations on June 15, 2020. The views of the Commission are contained in USITC Publication 5061 (June 2020), entitled Quartz Surface Products from India and Turkey: Investigation Nos. 701-TA-624-625 and 731-TA-1450-1451 (Final).

By order of the Commission.
Issued: June 15, 2020.
Lisa Barton,
Secretary to the Commission.

[FR Doc. 2020-13224 Filed 6-18-20; 8:45 am]

BILLING CODE 7020-02-P